DEPARTMENT OF DEFENSE

Department of the Navy

Notice of Intent To Grant Exclusive Patent License; Grey Matter, LLC

AGENCY: Department of the Navy, DoD.

ACTION: Notice; Correction.

SUMMARY: The Department of the Navy published a document in the Federal Register on September 17, 2014, announcing an intent to grant to Grey Matter, LLC, a revocable, nonassignable, exclusive license. The scope of the intent to license has been revised.

FOR FURTHER INFORMATION CONTACT: Rita Manak, Head, Technology Transfer Office, NRL Code 1004, 4555 Overlook Avenue SW., Washington, DC 20375-5320, telephone 202-767-3083. Due to U.S. Postal delays, please fax 202-404-7920, email: rita.manak@nrl.navy.mil or use courier delivery to expedite response.

Correction

In the Federal Register of September 17, 2014, make the following revision:

1. In the first and second column, on page 55764, revise the SUMMARY caption to read as follows:

Summary: The Department of the Navy hereby gives notice of its intent to grant to Grey Matter, LLC, a revocable, nonassignable, exclusive license to practice in the field of use of wearable personal protective equipment in the United States, the Government-owned inventions described in U.S. Patent No. 7,754,145 entitled “Fluorphore Embedded/Incorporating/Bridged Periodic Mesoporous Organosilicas as Recognition Photo-Decontamination Catalysts”, Navy Case No. 097,346; and U.S. Patent Application No. 14/209,728 entitled “Microwave Initiation for Deposition of Porous Organosilicate Materials on Fabrics”, Navy Case No. 102,325 and any continuations, divisionals or re-issues thereof.

DATES: Anyone wishing to object to the grant of this license must file written objections along with supporting evidence, if any, not later than August 30, 2016.

Dated: August 8, 2016.
N.A. Hagerty-Ford,
Commander, Office of the Judge Advocate General, U.S. Navy, Federal Register Liaison Officer.

[FR Doc. 2016-19348 Filed 8-12-16; 8:45 am]

BILLING CODE 3810-FF-P